DEPARTMENT OF DEFENSE

Department of the Air Force

Community College of the Air Force Subcommittee of the Air University Board of Visitors Meeting

AGENCY: Department of the Air Force.

ACTION: Meeting notice.

SUMMARY: The Department of Defense (DoD) is publishing this notice to announce the following Federal Advisory Committee meeting of the Air University Board of Visitor's (AU BoV) Community College of the Air Force (CCAF) Subcommittee.

DATES: Tuesday, February 4, 2025, from 8 a.m. to 5 p.m. and Wednesday, February 5, 2025, from 8 a.m. to 3 p.m. (central time).

ADDRESSES: Lake Area Technical College, 1201 Arrow Ave. NE, Watertown, SD 57201.

FOR FURTHER INFORMATION CONTACT: Dr. Shawn P. O'Mailia, Designated Federal Officer, Air University Headquarters, 55 LeMay Plaza South, Maxwell Air Force Base, Alabama 36112-6335, telephone (334) 953-4547, email shawn.omailia.3@au.af.mil.

SUPPLEMENTARY INFORMATION: This meeting is held under the provisions of the Federal Advisory Committee Act (FACA) of 1972 (5 U.S.C., appendix, as amended), the Government in the Sunshine Act of 1976 (5 U.S.C. 552b, as amended), and 41 CFR 102-3.50(d).

Purpose of the Meeting: For the CCAF Subcommittee of the Air University (AU) Board of Visitors (BOV) to review the education policies and activities of the Community College of the Air Force. The agenda will include: AU Reorganization—Barnes Center and CCAF, Accreditation Update, CCAF Credit Awarding Practices, and a LATC Overview and Tour.

Meeting Accessibility: Open to the public. Any member of the public wishing to attend this meeting should contact the Designated Federal Officer at least ten calendar days prior to the meeting for information on base entry procedures.

Written Statements: Any member of the public wishing to provide input to the Air University Board of Visitors in accordance with 41 CFR 102-3.140(c) and section 10(a)(3) of the Federal Advisory Committee Act should submit a written statement to the Designated Federal Officer. Statements submitted in response to the agenda mentioned in this notice must be received by the Designated Federal Officer at least ten calendar days prior to the meeting that is the subject of this notice. Written statements received after this date may not be provided to or considered by the CCAF Subcommittee of the Air University Board of Visitors until its next meeting. The Designated Federal Officer will review all timely submissions with the Air University Board of Visitors' Board Chairperson and ensure they are provided to members of the Board before the meeting that is the subject of this notice.

Tommy W. Lee,
Acting Air Force Federal Register Liaison Officer.

[FR Doc. 2025-00641 Filed 1-13-25; 8:45 am]

BILLING CODE 3911-44-P